DEPARTMENT OF HEALTH AND HUMAN SERVICES

Food and Drug Administration

[Docket No. FDA-2014-N-1697]

Privacy Act of 1974; Report of a New System of Records; Food and Drug Administration Commissioning of State and Local Officials; Correction

AGENCY: Food and Drug Administration, HHS.

ACTION: Notice; correction.

SUMMARY: The Food and Drug Administration (FDA) is correcting a notice that appeared in the Federal Register of December 8, 2014. The document misstated the effective date of the new system of records. This notice corrects that error.

FOR FURTHER INFORMATION CONTACT: Joyce Strong, Regulations Editorial Section, Regulations Policy and Management Staff, Office of Policy, Food and Drug Administration, 10903 New Hampshire Ave., Silver Spring, MD 20993-0002, 301-796-9148.

SUPPLEMENTARY INFORMATION: The December 8, 2014 (79 FR 72687) notice published with an incorrect effective date of December 8, 2014, for the new system of records. This document corrects that error. For the convenience of the reader, the complete DATES language is set out below.

In 79 FR 72687, published on December 8, 2014, we are correcting the DATES section to read as follows:

DATES: Effective Date: The new system of records and related routine uses will be effective on January 22, 2015. Submit either electronic or written comments by January 22, 2015.

Dated: December 10, 2014.
Leslie Kux,
Associate Commissioner for Policy.

[FR Doc. 2014-29424 Filed 12-15-14; 8:45 am]

BILLING CODE 4164-01-P